DEPARTMENT OF ENERGY

Federal Energy Regulatory Commission

[ Docket Nos. ER13-187-000; ER13-187-001, et al.]

Notice of Compliance Filings

| Docket Nos.
Midwest Independent Transmission System Operator, Inc | ER13-187-000 Docket No. ER13-187-001.
ISO New England Inc | ER13-193-000.
PJM Transmission Owners | ER13-195-000.
ISO New England Inc | ER13-196-000.
PJM Interconnection, LLC | ER13-198-000.

Take notice that on October 25, 2012, Midwest Independent Transmission System Operator, Inc., ISO New England Inc., PJM Transmission Owners,¹ and PJM Interconnection, LLC submitted filings to comply with the requirements of Order Nos. 1000 and 1000-A.²

¹ The PJM Transmission Owners that joined the filing are: Exelon Corporation; Jersey Central Power & Light Company, Metropolitan Edison Company, Pennsylvania Electric Company, Monongahela Power Company, The Potomac Edison Company, West Penn Power Company, and American Transmission Systems, Incorporated; Pepco Holdings, Inc. on behalf of its affiliates Potomac Electric Power Company, Delmarva Power & Light Company and Atlantic City Electric Company; PPL Electric Utilities Corporation; Public Service Electric and Gas Company; UGI Utilities, Inc.—Electric Division; and Virginia Electric and Power Company.

² Transmission Planning and Cost Allocation by Transmission Owning and Operating Public Utilities, Order No. 1000, FERC Stats. & Regs. ¶ 31,323 (2011), order on reh'g, Order No. 1000-A, 139 FERC ¶ 61,132; order on reh'g, Order No. 1000-B, 141 FERC ¶ 61,044 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 10, 2012.

Dated: November 1, 2012.
Nathaniel J. Davis, Sr.,
Deputy Secretary.

[FR Doc. 2012-27153 Filed 11-6-12; 8:45 am]

BILLING CODE 6717-01-P